DEPARTMENT OF THE INTERIOR

National Park Service

Notice of Inventory Completion: U.S. Department of Agriculture, Forest Service, Gila National Forest, Silver City, NM; Correction

AGENCY: National Park Service, Interior.

ACTION: Notice; correction.

Notice is here given in accordance with the Native American Graves Protection and Repatriation Act (NAGPRA), 25 U.S.C. 3003, of the completion of an inventory of human remains and associated funerary objects in the control of the U.S. Department of Agriculture, Forest Service, Gila National Forest, Silver City, NM; and in the possession of Arizona State Museum, University of Arizona, Tucson, NM; Field Museum of Natural History, Chicago, IL; Logan Museum of Anthropology, Beloit College, Beloit, WI; Maxwell Museum of Anthropology, University of New Mexico, Albuquerque, NM; Museum of New Mexico, Museum of Indian Arts and Culture, Santa Fe, NM; Ohio Historical Society, Columbus, OH; Peabody Museum of Archaeology and Ethnology, Harvard University, Cambridge, MA; University of Texas at Austin, Texas Memorial Museum, Austin, TX; and Western New Mexico University Museum, Silver City, NM. The human remains and associated funerary objects were removed from Gila National Forest, Catron County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of human remains and associated funerary objects reported in a Notice of Inventory Completion published in the Federal Register on July 22, 1998 (FR Doc 98-19536, pages 39293-39294) and in a subsequently corrected Notice of Inventory Completion published in the Federal Register on August 3, 2005 (FR Doc 05-15316, pages 44686-44687). In August 2005, the Field Museum of Natural History, Chicago, IL, re-examined the human remains and associated funerary objects taken from nine sites in the Gila National Forest, Catron County, NM. In light of the findings from the re-examination, the original notice of inventory, as well as the previously corrected notice of inventory are amended to include additions to the minimum number of individuals.

This notice corrects the July 22, 1998, Notice of Inventory Completion, by substituting the following paragraph for paragraph five:

Between 1935 and 1955, human remains representing 79 individuals were recovered from SU site, Oak Springs Pueblo, Tularosa Cave, Apache Creek Pueblo, Turkey Foot Ridge site, Wet Leggett Pueblo, Three Pines Pueblo, and South Leggett Pueblo by Dr. Paul Martin of the Field Museum of Natural History, Chicago, IL. The human remains are currently in the possession of the Field Museum of Natural History. No known individuals were identified. The 56 associated funerary objects include ceramic vessels and sherds, stone and shell jewelry, stone and bone tools, and projectile points.

The following paragraphs are substituted for paragraphs 27 and 28:

Officials of the U.S. Department of Agriculture, Forest Service, Gila National Forest have determined that, pursuant to 25 U.S.C. 3001 (9-10), the human remains described above represent the physical remains of 190 individuals of Native American ancestry. Officials of the U.S. Department of Agriculture, Forest Service, Gila National Forest also have determined that, pursuant to 25 U.S.C. 3001 (3)(A), the 256 objects described above are reasonably believed to have been placed with or near individual human remains at the time of death or later as part of the death rite or ceremony. Lastly, officials of the U.S. Department of Agriculture, Forest Service, Gila National Forest have determined that, pursuant to 25 U.S.C. 3001 (2), there is a relationship of shared group identity that can be reasonably traced between the Native American human remains and associated funerary objects and the Hopi Tribe of Arizona; Pueblo of Acoma, New Mexico; and Zuni Tribe of the Zuni Reservation, New Mexico.

Representatives of any other Indian tribe that believes itself to be culturally affiliated with the human remains and associated funerary objects should contact Dr. Frank E. Wozniak, NAGPRA Coordinator, Southwestern Region, U.S. Department of Agriculture, Forest Service, 333 Broadway Boulevard, SE, Albuquerque, NM 87102, telephone (505) 842-3238, before October 27, 2005. Repatriation of the human remains and associated funerary objects to the Hopi Tribe of Arizona; Pueblo of Acoma, New Mexico; and Zuni Tribe of the Zuni Reservation, New Mexico may proceed after that date if no additional claimants come forward.

The U.S. Department of Agriculture, Forest Service, Gila National Forest is responsible for notifying the Hopi Tribe of Arizona; Pueblo of Acoma, New Mexico; and Zuni Tribe of the Zuni Reservation, New Mexico that this notice has been published.

Dated: August 29, 2005.
Sherry Hutt,
Manager, National NAGPRA Program.

[FR Doc. 05-19265 Filed 9-26-05; 8:45 am]

BILLING CODE 4312-50-S